DEPARTMENT OF THE INTERIOR

Bureau of Land Management

[LLORB07000.L17100000.PH0000; HAG11-0206]

Call for Nominations for Steens Mountain Advisory Council

AGENCY: Bureau of Land Management, Interior.

ACTION: Notice of Advisory Council Call for Nominations.

SUMMARY: The Bureau of Land Management (BLM) requests public nominations for five persons to serve on the Steens Mountain Advisory Council. Citizens who serve on this council provide advice and recommendations to the BLM on land use planning and management of the Steens Mountain Cooperative Management and Protection Area. The BLM will accept public nominations for 30 days after the publication of this notice.

DATES: All nominations must be received no later than November 16, 2011.

ADDRESSES: Send completed Advisory Council nominations to BLM Burns District Office, 28910 Highway 20 West, Hines, Oregon 97738-9424. Nomination forms are also available at the BLM Burns District Office.

FOR FURTHER INFORMATION CONTACT: Tara Martinak, Public Affairs Specialist, BLM Burns District Office, 28910 Highway 20 West, Hines, Oregon 97738-9424, 541-573-4519, or e-mail tmartina@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Positions currently open or with terms expiring in 2011 include: A member of the Burns Paiute Tribe; a person who is a recognized environmental representative from the local area; a person with expertise and interest in wild-horse management on Steens Mountain; a person who is a grazing permittee on Federal lands in the Cooperative Management and Protection Area (CMPA); a person who participates in what is commonly called dispersed recreation, such as hiking, camping, nature viewing, nature photography, bird watching, horseback riding, or trail walking; and a person who has no financial interest in the CMPA to represent statewide interests. The Obama Administration prohibits individuals who are currently federally registered lobbyists to serve on all FACA and non-FACA boards, committees, or councils.

The Steens Mountain Advisory Council was initiated on August 14, 2001, pursuant to the Steens Mountain Cooperative Management and Protection Act of 2000 (Public Law 106-399). The Steens Mountain Advisory Council provides representative counsel and advice to the BLM and formulates recommendations to the BLM regarding new and unique approaches to management of the land within the bounds of the Steens Mountain Cooperative Management and Protection Area; and regarding cooperative programs and incentives for landscape management that meet human needs and maintain and improve the ecological and economic integrity of the Area.

Michael Mottice,
Associate State Director.

[FR Doc. 2011-26741 Filed 10-14-11; 8:45 am]

BILLING CODE 4310-33-P